DEPARTMENT OF COMMERCE

National Oceanic and Atmospheric Administration

[RTID 0648-XA127]

Endangered and Threatened Species; Take of Anadromous Fish

AGENCY: National Marine Fisheries Service (NMFS), National Oceanic and Atmospheric Administration (NOAA), Commerce.

ACTION: Notice; receipt of one Incidental Take Permit application and one Enhancement of Survival Permit application; availability of a draft environmental assessment; request for comments.

SUMMARY: Notice is hereby given that NMFS has received one Incidental Take Permit application and one Enhancement of Survival Permit application for Sierra Pacific Land & Timber Company's (SPL&T) Habitat Conservation Plan (HCP) and Safe Harbor Agreement (SHA). The HCP/SHA has been submitted pursuant to Section 10(a)(1)(B) and Section 10(a)(1)(A) of the Endangered Species Act (ESA) of 1973, as amended. NMFS has also prepared a draft environmental assessment (EA) under the National Environmental Policy Act (NEPA) describing the potential effects of NMFS' proposed issuance of the Permits associated with the submitted HCP/SHA.

SPL&T is the largest private forestland owner in the state of California, with ownership currently encompassing approximately 1.64 million acres of timberland throughout the northern and central portions of the state. Sierra Pacific Industries (SPI) is the authorized representative and manager of SPL&T lands. Rivers and streams on portions of SPL&T lands in the Trinity River and Sacramento River basins provide habitat for anadromous salmonids, including species listed under the ESA. NMFS is furnishing this notice in order to allow other agencies and the public an opportunity to review and comment on these documents. All comments and other information received will become part of the public record and will be available for review.

DATES: Comments or requests for a public hearing on the applications must be received at the appropriate address (see ADDRESSES) no later than 5 p.m. Pacific standard time on July 20, 2020.

ADDRESSES: Written comments on the submitted HCP/SHA and/or the draft NEPA EA should be addressed to the NMFS California Central Valley Office, Attn: Sierra Pacific Industries HCP/SHA, 650 Capitol Mall, Suite 5-100, Sacramento, CA 95814. Comments may also be submitted via email to SierraPacificHCP.wcr@noaa.gov. Include in the subject line of the email the following identifier: Comments on Sierra Pacific Industries HCP/SHA. Please specify whether the comments provided are associated with the HCP/SHA or the draft NEPA EA. When commenting, please refer to the specific page number and the subject of your comment. The documents are available on the internet at: https://www.fisheries.noaa.gov/action/habitat-conservation-plan-and-safe-harbor-agreement-sierra-pacific-industries-forestland.

FOR FURTHER INFORMATION CONTACT: Amanda Cranford, Sacramento, CA, at phone number: (916) 930-3706, or via email: Amanda.Cranford@noaa.gov.

SUPPLEMENTARY INFORMATION:

ESA-Listed Species Covered in This Notice

Chinook salmon (Oncorhynchus tshawytscha), (Evolutionary Significant Units (ESU)): Central Valley (CV) spring-run ESU and Sacramento River (SR) winter-run ESU.

Coho salmon (O. kisutch), (ESU): Southern Oregon/Northern California Coast (SONCC) ESU.

Steelhead (O. mykiss), (Distinct Population Segments (DPS)): California Central Valley (CCV) DPS.

Background

SPI has prepared a joint HCP/SHA to address effects of forest land management in the Sacramento River and Trinity River basins on salmonids listed under the ESA. The HCP addresses potential impacts resulting from SPI's timber harvest activities in watersheds with watercourses accessible to anadromous salmonids or upstream of those watercourses where potential effects from covered activities have the potential to extend to occupied habitat. Section 10(a)(1)(B) of the ESA authorizes NMFS to issue an Incidental Take Permit to non-Federal parties for the potential incidental taking of endangered and threatened species. In support of an Incidental Take Permit, SPI has prepared a HCP that provides an assessment of impacts; measures to monitor, minimize, and mitigate for those impacts; and procedures to account for unforeseen or extraordinary circumstances.

The SHA addresses potential impacts resulting from SPI's timber harvest activities on SPL&T lands in the Sacramento and Trinity River basins upstream of currently impassable dams where NMFS is proposing to reintroduce populations of ESA-listed salmonids. The purpose of the SHA is to provide incentives for non-Federal property owners to voluntarily conduct beneficial activities that either support or attract ESA-listed species. The SHA ensures that new restrictions are not placed on the future use of the property during the permit term, as long as the participating non-Federal property owners meet the terms of the SHA. The SHA identifies the Covered Species, boundaries of the enrolled property, the conservation benefits, the extent of incidental take, and the SHA Assurances. The incidental taking identified in the SHA is authorized under a Section 10(a)(1)(A) Enhancement of Survival Permit. The SHA prepared by SPI is reasonably expected to meet the regulatory standard of producing a net conservation benefit for ESA-listed salmonids to be reintroduced onto SPL&T lands.

Authority

Section 9 of the ESA and Federal regulations prohibit the taking of a species listed as endangered or threatened. The ESA defines “take” to mean harass, harm, pursue, hunt, shoot, wound, kill, trap, capture, or collect, or to attempt to engage in any such conduct. NMFS may issue permits, under limited circumstances to take listed species incidental to, and not the purpose of, otherwise lawful activities. Section 10(a)(1)(B) of the ESA and implementing regulations (50 CFR 222.307) provide for authorizing incidental take of listed species.

Enhancement of Survival permits are issued in accordance with Section 10(a)(1)(A) of the ESA (16 U.S.C. 1531 et seq.) and regulations governing listed fish and wildlife permits (50 CFR 222.308). NMFS issues permits based on findings that such permits: (1) Are applied for in good faith; (2) if granted and exercised, would not operate to the disadvantage of the listed species that are the subject of the permit; and (3) are consistent with the purposes and policy of Section 2 of the ESA. The authority to take listed species is subject to conditions set forth in the permits.

NEPA requires Federal agencies to conduct an environmental analysis of their proposed actions to determine if the actions may affect the human environment. Therefore, NMFS is seeking public input on the scope of the required NEPA analysis in the EA, including the range of reasonable alternatives and associated impacts of any alternatives.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: June 15, 2020.
Angela Somma,
Chief, Endangered Species Division, Office of Protected Resources, National Marine Fisheries Service.

[FR Doc. 2020-13264 Filed 6-18-20; 8:45 am]

BILLING CODE 3510-22-P